DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 1, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

PRT—056128

Applicant: Coronas Entertainment, Bradenton, Florida.

The applicant requests a permit to export, re-export, and re-import one tiger (Panthera tigris) and to/from worldwide locations to enhance the survival of the species through conservation education. This notification covers activities conducted by the applicant over a three-year period.

PRT-056214

Applicant: Richard W. Corzine, Jr., Sioux Falls, SD.

The applicant requests a permit to import the sport-hunted trophy of two male bonteboks (Damaliscus pygargus dorcas) culled from a captive herd maintained under the management program of the Republic of South Africa for the purpose of enhancement of the survival of the species.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR part 18) and endangered species (50 CFR part 17). Written data, comments, or requests for copies of the complete applications or requests for a public hearing on these applications should be submitted to the Director (address above). Anyone requesting a hearing should give specific reasons why a hearing would be appropriate. The holding of such a hearing is at the discretion of the Director.

PRT-056326

Applicant: Dr. Graham Worthy/University of Central Florida, Orlando, FL

Permit Type: Take for Scientific Research.

Name and Number of Animals: Manatee (Trichecus manatus) 20.

Summary of Activity to be Authorized: The applicant requests a permit for continued research regarding the metabolic rate of captive held manatees. Activities originally authorized under permit number PRT-766146.

Source of Marine Mammals: Captive held animals.

Period of Activity: Up to 5 years if authorized.

Concurrent with the publication of this notice in the Federal Register, the Division of Management Authority is forwarding copies of the above applications to the Marine Mammal Commission and the Committee of Scientific Advisors for their review.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-740507

Applicant: Alaska Science Center, U.S. Geological Survey, Anchorage, AK,

Permit Type: Take for Scientific Research.

Name and Number of Animals: Northern sea otter (Enhydra lutris lutris), 300.

Summary of Activity to be Authorized: The applicant requests renewal and amendment of their permit authorizing the following annual activities: take up to 300 animals, including but not limited too, incidental take, capture/recapture, release, collect biological samples, tag, mark, implant, and import biological samples as part of a long term study on the species.

Source of Marine Mammals: Wild live animals and material salvaged from animals found dead, or collected as may be available through the Native Alaskan subsistence harvest.

Period of Activity: Up to 5 years if authorized.

Concurrent with the publication of this notice in the Federal Register, the Division of Management Authority is forwarding copies of the above applications to the Marine Mammal Commission and the Committee of Scientific Advisors for their review.

PRT-056324

Applicant: John D. Frost, Anchorage, AK

The applicant requests a permit to import a polar bear (Ursus maritimus) sport-hunted prior to April 30, 1994, from the Northern Beaufort Sea polar bear population, Northwest Territories, Canada for personal use.

PRT-056309

Applicant: Winston Stalcup, Alpharetta, GA.

The applicant requests a permit to import a polar bear (Ursus maritimus) sport hunted from the Northern Beaufort Sea polar bear population in Canada for personal use.

The U.S. Fish and Wildlife Service has information collection approval from OMB through March 31, 2004, OMB Control Number 1018-0093. Federal Agencies may not conduct or sponsor and a person is not required to respond to a collection of information unless it displays a current valid OMB control number.

Dated: May 3, 2002.
Anna Barry,
Senior Permit Biologist, Branch of Permits, Division of Management Authority.

[FR Doc. 02-13438 Filed 5-29-02; 8:45 am]

BILLING CODE 4310-55-P